DEPARTMENT OF TRANSPORTATION

Federal Aviation Administration

14 CFR Part 39

[Docket No. FAA-2011-0691; Directorate Identifier 2011-NE-26-AD]

RIN 2120-AA64

Airworthiness Directives; Lycoming Engines Model TIO 540-A Series Reciprocating Engines

AGENCY: Federal Aviation Administration (FAA), DOT.

ACTION: Notice of proposed rulemaking (NPRM); rescission.

SUMMARY: We propose to rescind an airworthiness directive (AD) for Lycoming Engines model TIO 540-A series reciprocating engines. The existing AD, AD 71-13-01 (Amendment 39-1231) resulted from a report of a failed fuel injector tube assembly.

Since we issued AD 71-13-01, we became aware that Lycoming Engines no longer supports Service Bulletin (SB) No. 335A, which was incorporated by reference in AD 71-13-01. The intent of the requirements of that SB is now in Lycoming Engines Mandatory SB No. 342F. This proposal to rescind AD 71-13-01 allows the public the opportunity to comment on the FAA's determination of the duplication of requirements in another AD, before we rescind the engine-level AD.

DATES: We must receive comments on this proposed AD by September 2, 2011.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 0590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone: 800-647-5527) is the same as the Mail address provided in the ADDRESSES section. Comments will be available in the AD docket shortly after receipt.

FOR FURTHER INFORMATION CONTACT: Norm Perenson, Aerospace Engineer, New York Aircraft Certification Office, FAA, Engine & Propeller Directorate, 1600 Stewart Avenue, Suite 410, Westbury, NY 11590; phone: 516-228-7337; fax: 516-794-5531; e-mail: Norman.perenson@faa.gov.

SUPPLEMENTARY INFORMATION:

Comments Invited

We invite you to send any written relevant data, views, or arguments about this proposed AD rescission. Send your comments to an address listed under the ADDRESSES section. Include “Docket No. FAA-2011-0691; Directorate Identifier 2011-NE-26-AD” at the beginning of your comments. We specifically invite comments on the overall regulatory, economic, environmental, and energy aspects of this proposed AD rescission. We will consider all comments received by the closing date and may amend this proposed AD rescission based on those comments.

We will post all comments we receive, without change, to http://www.regulations.gov, including any personal information you provide. We will also post a report summarizing each substantive verbal contact with FAA personnel concerning this proposed AD rescission. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

In June of 1971, the FAA Engine & Propeller Directorate issued AD 71-13-01. That AD requires a one-time visual inspection of external fuel injector lines on Lycoming Engines model TIO 540-A series reciprocating engines for fuel stains, cracks, dents, and bend radii under ⅝ inch and, if necessary, removal from service and replacement with serviceable parts. That AD also requires installing if necessary, fuel injector line support clamps in accordance with Lycoming Engines SB No. 335 or later version of that SB.

Since we issued AD 71-13-01, Lycoming Engines has informed us that it no longer supports SB No. 335A. They also pointed out that Lycoming Engines Mandatory SB No. 342F, dated June 4, 2010, or the Instructions for Continued Airworthiness section of the Engine Overhaul Manual is the service information the owners, operators, and certificated repair facilities must use for initial and repetitive visual inspections of external fuel lines, on all affected Lycoming Engines reciprocating engines.

We incorporated by reference Lycoming Engines Mandatory SB No. 342E, dated May 18, 2004, in AD 2008-14-07 (73 FR 39574, July 10, 2008). We are in the process of issuing a supersedure to that AD, which will incorporate by reference Lycoming Engines Mandatory SB No. 342F, dated June 4, 2010.

FAA's Determination and Requirements of This Proposed AD Rescission

We are proposing this AD rescission of AD 71-13-01 because we evaluated all information and determined that the requirements of that AD are no longer supported by Lycoming Engines SB No. 335A, but are supported by Mandatory SB No. 342E, Mandatory SB 342F, and the Instructions for Continued Airworthiness section of the Engine Overhaul Manual.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD rescission would not have federalism implications under Executive Order 13132. This proposed AD rescission would not have a substantial direct effect on the States, on the relationship between the national Government and the States, or on the distribution of power and responsibilities among the various levels of government.

For the reasons discussed above, I certify this proposed rescission of a regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD rescission and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by rescinding airworthiness directive (AD) 71-13-01, Amendment 39-1231:

Lycoming Engines (formerly Textron Lycoming Division, AVCO Corporation): Docket No. FAA-2011-0691; Directorate Identifier 2011-NE-26-AD.

(a) Comments Due Date

We must receive comments by September 2, 2011.

(b) Affected ADs

This AD rescinds AD 71-13-01.

(c) Applicability

This AD applies to Lycoming Engines model TIO 540-A series reciprocating engines, with serial numbers lower than 1931-61.

Issued in Burlington, Massachusetts, on July 13, 2011.
Colleen M. D'Alessandro,
Acting Manager, Engine and Propeller Directorate, Aircraft Certification Service.

[FR Doc. 2011-18170 Filed 7-18-11; 8:45 am]

BILLING CODE 4910-13-P